DEPARTMENT OF COMMERCE

National Oceanic and Atmospheric Administration

50 CFR Part 622

[Docket No. 101206604-1758-02]

RIN 0648-X100714b

Fisheries of the Caribbean, Gulf of Mexico, and South Atlantic; Coastal Migratory Pelagic Resources of the Gulf of Mexico and South Atlantic; Trip Limit Reduction

AGENCY: National Marine Fisheries Service (NMFS), National Oceanic and Atmospheric Administration (NOAA), Commerce.

ACTION: Temporary rule; trip limit reduction.

SUMMARY: NMFS reduces the trip limit for the commercial sector of king mackerel in the eastern zone of the Gulf of Mexico (Gulf) in the Florida west coast northern subzone to 500 lb (227 kg) of king mackerel per day in or from the exclusive economic zone (EEZ). This trip limit reduction is necessary to protect the Gulf king mackerel resource.

DATES: This rule is effective 12:01 a.m., local time, October 13, 2014, through June 30, 2015, unless changed by further notice in the Federal Register.

FOR FURTHER INFORMATION CONTACT: Susan Gerhart, telephone: 727-824-5305, email: susan.gerhart@noaa.gov.

SUPPLEMENTARY INFORMATION: The fishery for coastal migratory pelagic fish (king mackerel, Spanish mackerel, and cobia) is managed under the Fishery Management Plan for the Coastal Migratory Pelagic Resources of the Gulf of Mexico and South Atlantic (FMP). The FMP was prepared by the Gulf of Mexico and South Atlantic Fishery Management Councils (Councils) and is implemented under the authority of the Magnuson-Stevens Fishery Conservation and Management Act (Magnuson-Stevens Act) by regulations at 50 CFR part 622.

The Gulf migratory group king mackerel is divided into western and eastern zones. On April 27, 2000, NMFS implemented the final rule (65 FR 16336, March 28, 2000) that further divided the Gulf eastern zone's Florida west coast subzone into northern and southern subzones, and established their separate quotas. The December 29, 2011 (76 FR 82058), final rule specified the quota for the Florida west coast northern subzone at 178,848 lb (81,124 kg) (50 CFR 622.384(b)(1)(i)(B)(2)).

The regulations at 50 CFR 622.385(a)(2)(ii)(B)(2), provide that when 75 percent of the Florida west coast northern subzone's quota has been harvested until a closure of the subzone has been effected or the fishing year ends, king mackerel in or from the EEZ may be possessed on board or landed from a permitted vessel in amounts not exceeding 500 lb (227 kg) per day.

NMFS has projected that 75 percent of the quota for Gulf migratory group king mackerel from the Florida west coast northern subzone has been reached. Accordingly, a 500-lb (227-kg) trip limit applies to vessels with a commercial permit for king mackerel that possess or land king mackerel in or from the EEZ in the Florida west coast northern subzone effective 12:01 a.m., local time, October 13, 2014. The 500-lb (227-kg) trip limit will remain in effect until the subzone closes or until the end of the current fishing year (June 30, 2015), whichever occurs first.

The Florida west coast northern subzone is that part of the EEZ between 26°19.8' N. latitude (a line directly west from the boundary between Lee and Collier Counties, FL) and 87°31.1' W. longitude (a line directly south from the state boundary of Alabama and Florida).

Classification

The Regional Administrator, Southeast Region, NMFS, has determined this temporary rule is necessary for the conservation and management of Gulf migratory group king mackerel and is consistent with the Magnuson-Stevens Act and other applicable laws.

This action is taken under 50 CFR 622.385(a)(2)(ii)(B) and is exempt from review under Executive Order 12866.

These measures are exempt from the procedures of the Regulatory Flexibility Act because the temporary rule is issued without opportunity for prior notice and comment.

This action responds to the best scientific information available. The Assistant Administrator for Fisheries, NOAA, (AA), finds good cause to waive the requirements to provide prior notice and opportunity for public comment pursuant to the authority set forth at 5 U.S.C. 553(b)(B) as such prior notice and opportunity for public comment is unnecessary and contrary to the public interest. Such procedures would be unnecessary because the rule implementing the trip limit reductions when 75 percent of the quota has been or projected to be reached has already been subject to notice and comment, and all that remains is to notify the public of the trip limit reduction. Additionally, allowing prior notice and opportunity for public comment is contrary to the public interest because of the need to immediately implement this action to protect the king mackerel stock because the capacity of the fishing fleet allows for rapid harvest of the quota. Prior notice and opportunity for public comment would require time and would potentially result in a harvest well in excess of the established quota.

For the aforementioned reasons, the AA also finds good cause to waive the 30-day delay in effectiveness of this action under 5 U.S.C. 553(d)(3).

Authority: 16 U.S.C. 1801 et seq.

Dated: October 8, 2014.
James P. Burgess,
Acting Director, Office of Sustainable Fisheries, National Marine Fisheries Service.

[FR Doc. 2014-24358 Filed 10-8-14; 4:15 pm]

BILLING CODE 3510-22-P